DEPARTMENT OF COMMERCE

Bureau of the Census

[Docket Number 060816217-6217-01]

2006 Company Organization Survey

AGENCY: Bureau of the Census, Commerce.

ACTION: Notice of Determination.

SUMMARY: The Bureau of the Census is conducting the 2006 Company Organization Survey. The survey's data are needed, in part, to update the multilocation companies in the Business Register. The survey, which has been conducted annually since 1974, is designed to collect information on the number of employees, payroll, geographic location, current operational status, and the type of business for the establishments of multilocation companies. We have determined that annual data collected from this survey are needed to aid the efficient performance of essential governmental functions and have significant application to the needs of the public and industry. The data derived from this survey are not available from any other source.

ADDRESSES: The Census Bureau will furnish report forms to organizations included in the survey, and additional copies are available upon written request to the Director, Bureau of the Census, Washington, DC 20233-0101.

FOR FURTHER INFORMATION CONTACT: Paul Hanczaryk, Economic Planning and Coordination Division, Bureau of the Census, Room 2747, Federal Building 3, Washington, DC 20233-6100; telephone (301) 763-4058.

SUPPLEMENTARY INFORMATION: Title 13, United States Code (U.S.C.), Sections 182, 195, 224, and 225 authorize the Census Bureau to undertake Surveys necessary to furnish current data on the subjects covered by the major censuses. This survey will provide continuing and timely national statistical data for the period between economic censuses. The next economic census will be conducted for the year 2007. The data collected in this survey will be within the general scope, type, and character of those that are covered in the economic censuses. Forms NC-99001 and NC-99007 (for single-location companies) will be used to collect the desired data.

Notwithstanding any other provision of law, no person is required to respond to, nor shall a person be subject to a penalty for failure to comply with a collection of information subject to the requirements of the Paperwork Reduction Act, unless that collection of information displays a current valid Office of Management and Budget (OMB) control number. In accordance with the Paperwork Reduction Act, 44 U.S.C., Chapter 35, the OMB approved Forms NC-99001 and NC-99007 on December 21, 2004, under OMB Control Number 0607-0444. We will furnish report forms to organizations included in the survey, and additional copies are available on written request to the Director, Bureau of the Census, Washington, DC 20233-0101.

I have, therefore, directed that the 2006 Company Organization Survey be conducted for the purpose of collecting these data.

Dated: August 29, 2006.
Charles Louis Kincannon,
Director, Bureau of the Census.

[FR Doc. E6-14567 Filed 8-31-06; 8:45 am]

BILLING CODE 3510-07-P